OFFICE OF THE UNITED STATES TRADE REPRESENTATIVE

[Docket No. WTO/D-203]

WTO Consultations Regarding Mexico—Measures Affecting Trade in Live Swine

AGENCY: Office of the United States Trade Representative.

ACTION: Notice; request for comments.

SUMMARY: The Office of the United States Trade Representative (USTR) is providing notice that on July 10, 2000, the United States requested consultations with Mexico under the Marrakesh Agreement Establishing the World Trade Organization (WTO), regarding its 20 October 1999 definitive anti-dumping measure involving live swine from the United States as well as sanitary and other restrictions imposed by Mexico on imports of live swine weighing more than 110 kilograms. The United States considers that Mexico made a determination of threat of material injury that appears to be in contravention of Articles 3 and 12 of the Anti-Dumping Agreement and that actions by Mexico in the conduct of the anti-dumping investigation appear to be inconsistent with Mexico's obligations under Article 6 of the Agreement. In addition, Mexico maintains sanitary restrictions on the importation of live swine weighing 110 kilograms or more that appear to be inconsistent with Mexico's obligations under the WTO Agreements on Agriculture, the Application of Sanitary and Phytosanitary Measures and Technical Barriers to Trade as well as the GATT. Pursuant to Article 4.3 of the WTO Dispute Settlement Understanding (“DSU”), such consultations are to take place within a period of 30 days from the date of the request, or within a period otherwise mutually agreed between the United States and Mexico. USTR invites written comments from the public concerning the issues raised in this dispute.

DATES: Although the USTR will accept any comments received during the course of the dispute settlement proceedings, comments should be submitted on or before September 4, 2000 to be assured of timely consideration by USTR.

ADDRESSES: Submit comments to Sandy McKinzy, Monitoring and Enforcement Unit, Office of the General Counsel, Room 122, Office of the United States Trade Representative, 600 17th Street, NW., Washington, DC, 20508, Attn: Live Swine Dispute. Telephone: (202) 395-3582.

FOR FURTHER INFORMATION CONTACT: James M. Lyons, Associate General Counsel, Office of the United States Trade Representative, 600 17th Street, NW., Washington, DC, (202) 395-3582.

SUPPLEMENTARY INFORMATION: Section 127(b) of the Uruguay Round Agreements Act (URAA) (19 U.S.C. 3537(b)(1)) requires that notice and opportunity for comment be provided after the United States submits or receives a request for the establishment of a WTO dispute settlement panel. Consistent with this obligation, but in an effort to provide an earlier opportunity for comment, USTR is providing notice that consultations have been requested pursuant to the WTO Dispute Settlement Understanding. If such consultations should fail to resolve the matter and a dispute settlement panel is established pursuant to the DSU, such panel, which would hold its meetings in Geneva, Switzerland, would be expected to issue a report on its findings and recommendations within six to nine months after it is established.

Major Issues Raised by the United States

The United States considers that Mexico made a determination of threat of material injury in contravention of Articles 3 and 12 of the Anti-dumping Agreement, including: by failing to evaluate all relevant economic factors and indices having a bearing on the state of the industry; by failing to perform an objective examination of the consequent impact of imports found to be dumped on domestic producers of the like product; by failing to determine that there was a clearly foreseen and imminent change in circumstances that would create a situation in which dumping of imports of live swine of a weight more than or equal to 50 kilograms and less than 110 kilograms would cause injury; and by failing to determine that material injury would occur unless protective action were taken.

The United States also considers that Mexico has failed to comply with the requirements of Article 6 of the Anti-Dumping Agreement, including: by failing to provide respondent U.S. exporters with timely opportunities to see and prepare presentations on the basis of all information used by the investigating authority that is relevant to the anti-dumping investigation; and by failing to inform respondent U.S. exporters, before the final determination was made, of the essential facts under consideration which form the basis of Mexico's decision to apply definitive measures.

In addition, Mexico appears to be restricting or prohibiting the entry of U.S. live swine through measures, other than anti-dumping duties, in a manner inconsistent with its obligations under other WTO Multilateral Agreements on Trade in Goods. First, Mexico appears to have prohibited the importation of swine weighing 110 kilograms or more. Second, notwithstanding the apparent ban on importation of such swine, Mexico also appears to be maintaining sanitary restrictions on imported swine that constitute arbitrary and unjustified discrimination because no similar measures are applied to swine in Mexico. Furthermore, there does not appear to be a scientific basis for these measures. Finally, the United States understands that Mexico may have adopted technical regulations, not constituting sanitary measures, that are applicable to imported, but not domestic, swine.

Public Comment: Requirements for Submissions

Interested persons are invited to submit written comments concerning the issues raised in the dispute. Comments must be in English and provided in fifteen copies. A person requesting that information contained in a comment submitted by that person be treated as confidential business information must certify that such information is business confidential and would not customarily be released to the public by the commenter. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2). If the submitter believes that information or advice may qualify as such, the submitter—

(1) Must so designate the information or advice;

(2) Must clearly mark the material as “SUBMITTED IN CONFIDENCE” in a contrasting color ink at the top of each page of each copy; and

(3) Is encouraged to provide a non-confidential summary of the information or advice. Pursuant to section 127(e) of the URAA (19 U.S.C. 3537(e)), USTR will maintain a file on this dispute settlement proceeding, accessible to the public, in the USTR Reading Room: Room 101, Office of the United States Trade Representative, 600 17th Street, NW., Washington, DC 20508. The public file will include a listing of any comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket WTO/D-203, Mexico—Measures Affecting Trade in Live Swine) may be made by calling Brenda Webb, (202) 395-6186. The USTR Reading Room is open to the public from 9:30 a.m. to 12 noon and 1 p.m. to 4 p.m., Monday through Friday.

A. Jane Bradley,
Assistant United States Trade Representative for Monitoring and Enforcement.

[FR Doc. 00-19949 Filed 8-7-00; 8:45 am]

BILLING CODE 3190-01-M